NATIONAL ARCHIVES AND RECORDS ADMINISTRATION

36 CFR Part 1254

RIN 3095-AB10

Revision of NARA Research Room Procedures; Correction

AGENCY: National Archives and Records Administration (NARA).

ACTION: Correcting amendment.

SUMMARY: This document contains a correction to the final regulations, which were published in the Federal Register of Wednesday, June 30, 2004, (69 FR 39313). The regulations related to the revision of NARA research room procedures.

DATES: Effective on July 30, 2004.

FOR FURTHER INFORMATION CONTACT: Jennifer Davis Heaps at (301) 837-1801.

SUPPLEMENTARY INFORMATION:

Background

The final regulations that are the subject of this correction apply to the use of personal paper-to-paper copiers at the National Archives at College Park and affect the public.

Need for Correction

As published, the final regulations omitted the Office of Management and Budget (OMB) Control Number for the information collection described in § 1254.86(a).

List of Subjects in 36 CFR Part 1254

Archives and records, Micrographics.

Accordingly, 36 CFR part 1254 is corrected by making the following correcting amendment:

PART 1254—USING RECORDS AND DONATED HISTORICAL MATERIALS

1. The authority citation for part 1254 continues to read as follows:

Authority: 44 U.S.C. 2101-2118.

2. Add paragraph (h) to § 1254.86 to read as follows:

§ 1254.86 May I use a personal paper-to-paper copier at the National Archives at College Park?

* * * * *

(h) The collection of information contained in this section has been approved by the Office of Management and Budget with the control number 3095-0035.

Dated: September 10, 2004.
Nancy Y. Allard,
Federal Register Liaison.

[FR Doc. 04-20762 Filed 9-14-04; 8:45 am]

BILLING CODE 7515-01-P